DEPARTMENT OF TRANSPORTATION

Federal Aviation Administration

[Summary Notice No. PE-2001-12]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 13, 2001.

ADDRESSES: Send comments on any petition in triplicate to: Federal Aviation Administration, Office of the Chief Counsel, Attn: Rule Docket (AGC-200), Petition Docket No.—, 800 Independence Avenue, SW., Washington, DC 20591.

The petition, any comments received, and a copy of any final disposition are filed in the assigned regulatory docket and are available for examination in the Rules Docket (AG-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to §§ 11.85 and 11.91.

Issued in Washington, D.C., on February 15, 2001.
Donald P. Byrne,
Assistant Chief Counsel for Regulations.

Dispositions of Petitions

Docket No.: 29703.

Petitioner: Vickers Systems Division, Aeroquip-Vickers Limited.

Section of the 14 CFR Affected: 14 CFR 145.49(a).

Description of Relief Sought/Disposition: To permit VSD to subcontract the maintenance of certain components to the original equipment manufacturers that are not FAA-certificated repair stations.

Grant, 02/02/2001, Exemption No. 7436

Docket No.: 29332.

Petitioner: SkyWorld Aviation, Inc.

Section of the 14 CFR Affected: 14 CFR 135.163 and 135.181.

Description of Relief Sought/Disposition: To permit SkyWorld to conduct passenger-carrying operations in single-engine airplanes in certain, limited instrument flight rules (IFR) conditions as were permitted previously by §§ 135.103 and 135.181 before the adoption of Amendment No. 135-70. In addition, the proposed exemption would allow SkyWorld to conduct such operations without equipping its airplanes with (1) two independent electrical power-generating sources, or a standby battery or alternate source of electrical power; and (2) a redundant energy system for gyroscopic instruments.

Denial, 02/05/2001, Exemption No. 7435

Docket No.: 29910.

Petitioner: Japan Turbine Technologies Company, Ltd.

Section of the 14 CFR Affected: 14 CFR 145.47(b).

Description of Relief Sought/Disposition: To permit JTT to use the calibration standards of the National Research Laboratory of Metrology (NRLM) and the Electrotechnical Laboratory (ETL), Japan's national standards organization, in lieu of the calibration standards of the U.S. National Institute of Standards and Technology (NIST), formerly the National Bureau of Standards (NBS), to test its inspection and test equipment.

Grant, 02/02/2001, Exemption No. 7438

Docket No.: 29768.

Petitioner: ANA Aircraft Maintenance Co., Ltd.

Section of the 14 CFR Affected: 14 CFR 145.47(b).

Description of Relief Sought/Disposition: To permit ANAM to substitute the calibration standards of the National Research Laboratory of Metrology (NRLM) and the Elctrotechnical Laboratory (ETL), Japan's national standards organizations, for the calibration standards of the U.S. National Institute of Standards and Technology (NIST), formerly the National Bureau of Standards (NBS), to test its inspection and test equipment.

Grant, 01/31/2001, Exemption No. 7437

[FR Doc. 01-4276 Filed 2-20-01; 8:45 am]

BILLING CODE 4910-13-M